DEPARTMENT OF TRANSPORTATION

Federal Aviation Administration

Notice of Intent To Rule on a Land Release Request at Ellington Field, Houston, Texas

AGENCY: Federal Aviation Administration (FAA), DOT.

ACTION: Notice of request to release airport property.

SUMMARY: The FAA proposes to rule and invite public comment on the release of land at Ellington Field under the provisions of Section 125 of the Wendell H. Ford Aviation Investment Reform Act for the 21st Century (AIR 21).

DATES: Comments must be received on or before August 2, 2021.

ADDRESSES: Comments on this application may be emailed to the FAA at the following address: Mr. Jesse Carriger, Manager, 7-ASW-TX-ADO@faa.gov, Federal Aviation Administration, Southwest Region, Airports Division, Texas Airports Development Office, ASW-650, 10101 Hillwood Parkway, Fort Worth, Texas 76177.

In addition, one copy of any comments submitted to the FAA must be mailed or delivered to Mr. Arturo Machuca, General Manager, at the following address: 11602 Aerospace Avenue, Houston, Texas, 77034.

FOR FURTHER INFORMATION CONTACT: Mr. Roman Piñon, Lead Civil Engineer, Federal Aviation Administration, Texas Airports District Office, 10101 Hillwood Parkway, Fort Worth, Texas 76177, Telephone: (817) 222-5613, Email: roman.pinon@faa.gov, Fax: (817) 222-5989.

The request to release property may be reviewed in person at this same location.

SUPPLEMENTARY INFORMATION: The FAA invites public comment on the request to release property at Ellington Field under the provisions of the AIR 21.

The following is a brief overview of the request:

The City of Houston requests the release of 3.95 acres of non-aeronautical airport property. The land was acquired by Indenture and Deed without Warrant from the United States on July 1, 1984 and August 21, 1984 respectively. Any person may inspect the request at the FAA listed above under FOR FURTHER INFORMATION CONTACT.

In addition, any person may, upon request inspect the application, notice and other documents relevant to the application in person at Ellington Field, telephone number (713) 847-4200.

Issued in Fort Worth, Texas, on May 17, 2021.
Ignacio Flores,
Manager, Airports Division, FAA, Southwest Region.

[FR Doc. 2021-14229 Filed 7-1-21; 8:45 am]

BILLING CODE 4910-13-P